DEPARTMENT OF THE INTERIOR

National Park Service

[NPS-WASO-NAGPRA-20668; PPWOCRADN0-PCU00RP14.R50000]

Notice of Intent To Repatriate Cultural Items: History Colorado, Formerly Colorado Historical Society, Denver, CO

AGENCY: National Park Service, Interior.

ACTION: Notice.

SUMMARY: History Colorado, in consultation with the appropriate Indian tribes or Native Hawaiian organizations, has determined that the cultural items listed in this notice meet the definition of unassociated funerary objects. Lineal descendants or representatives of any Indian tribe or Native Hawaiian organization not identified in this notice that wish to claim these cultural items should submit a written request to History Colorado. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to History Colorado at the address in this notice by May 13, 2016.

ADDRESSES: Sheila Goff, 1200 Broadway, Denver, CO 80203, telephone (303) 866-4531, email sheila.goff@state.co.us.

SUPPLEMENTARY INFORMATION: Notice is here given in accordance with the Native American Graves Protection and Repatriation Act (NAGPRA), 25 U.S.C. 3005, of the intent to repatriate cultural items under the control of History Colorado that meet the definition of unassociated funerary objects, under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In or about 1915, private citizens removed three cultural items from a Ute grave located near the former White River Indian Agency, CO. They were donated to the museum in 1927. The three unassociated funerary objects are one set of thin, undecorated copper bracelets, one leather belt decorated with copper studs, and one rifle fragment. The rifle is of the type used in the early 1870s. The human remains were never in the possession of History Colorado.

Geographical evidence, burial context, and museum records support affiliation with the Ute Indian Tribe of the Uintah & Ouray Reservation, Utah. The three northern Ute bands once living at the White River Indian Agency were removed from Colorado in 1880 and are now part of the Ute Indian Tribe of the Uintah & Ouray Reservation, Utah.

Determinations Made by History Colorado

Officials of the History Colorado have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Ute Indian Tribe of the Uintah & Ouray Reservation, Utah.

Additional Requestors and Disposition

Lineal descendants or representatives of any Indian tribe or Native Hawaiian organization not identified in this notice that wish to claim these cultural items should submit a written request with information in support of the claim to Sheila Goff, 1200 Broadway, Denver, CO 80203, telephone (303) 866-4531, email sheila.goff@state.co.us, by May 13, 2016. After that date, if no additional claimants have come forward, transfer of control of the unassociated funerary objects to the Ute Indian Tribe of the Uintah & Ouray Reservation, Utah may proceed.

History Colorado is responsible for notifying the Southern Ute Indian Tribe of the Southern Ute Indian Reservation, Colorado; the Ute Indian Tribe of the Uintah & Ouray Reservation, Utah and the Ute Mountain Tribe of the Ute Mountain Reservation, Colorado, New Mexico and Utah that this notice has been published.

Dated: March 21, 2016.
Melanie O'Brien,
Manager, National NAGPRA Program.

[FR Doc. 2016-08451 Filed 4-12-16; 8:45 am]

BILLING CODE 4312-50-P